DEPARTMENT OF TRANSPORTATION

Federal Aviation Administration

Notice of Intent To Rule on Application To Impose and Use a Passenger Facility Charge (PFC) at San Luis Obispo County Regional Airport, San Luis Obispo, CA

AGENCY: Federal Aviation Administration (FAA), DOT.

ACTION: Notice of intent to rule on application.

SUMMARY: The FAA proposes to rule and invites public comment on the application to impose and use the revenue from a PFC at San Luis Obispo County Regional Airport under the provisions of the Aviation Safety and Capacity Expansion Act of 1990 (Title IX of the Omnibus Budget Reconciliation Act of 1990) (Public Law 101-508) and Part 158 of the Federal Aviation Regulations (14 CFR Part 158).

DATES: Comments must be received on or before August 5, 2002.

ADDRESSES: Comments on this application may be mailed or delivered in triplicate to the FAA at the following address: Federal Aviation Administration, Airports Division, 15000 Aviation Blvd., Hawthorne, CA 90250, or San Francisco Airports District Office, 831 Mitten Road, Room 210, Burlingame, CA 94010-1303. In addition, one copy of any comments submitted to the FAA must be mailed or delivered to Mr. Martin Pehl, Assistant Airports Manager, County of San Luis Obispo, at the following address: 903-5 Airport Drive, San Luis Obispo, CA 93401. Air carriers and foreign air carriers may submit copies of written comments previously provided to the County of San Luis Obispo under section 158.23 of Part 158.

FOR FURTHER INFORMATION CONTACT: Marlys Vandervelde, Airports Program Analyst, San Francisco Airports District Office, 831 Mitten Road, Room 210, Burlingame, CA 94010-1303, telephone: (650) 876-2806. The application may be reviewed in person at this same location.

SUPPLEMENTARY INFORMATION: The FAA proposes to rule and invites public comment on the application to impose and use the revenue from a PFC at San Luis Obispo County Regional Airport under the provisions of the Aviation Safety and Capacity Expansion Act of 1990 (Title IX of the Omnibus Budget Reconciliation Act of 1990) (Public Law 101-508) and Part 158 of the Federal Aviation Regulations (14 CFR Part 158).

On June 20, 2002, the FAA determined that the application to impose and use a PFC submitted by the County of San Luis Obispo was substantially complete within the requirements of section 158.25 of Part 158. The FAA will approve or disapprove the application, in whole or in part, no later than September 26, 2002.

The following is a brief overview of the impose and use application No. 02-07-C-00-SBP:

Level of proposed PFC: $4.50.

Proposed charge effective date: July 1, 2015.

Proposed charge expiration date: July 1, 2019.

Total estimated PFC revenue: $1,790,380.

Brief description of the proposed projects: Construction of Hangar Taxiways, Construction of Runway 11-29 Blast Pads, Construction of Airport Service Road, Construction of Northeast Access Road, Construction of “EPA/National Discharge Elimination System” Pollution Control Facility, Runway 11-29 & Taxiway A Extension (Phase I), Runway 11-29 & Taxiway A Extension (Phase II), Safety Area Grading and Drainage, Construction of Southwest Apron, Rehabilitation/Reconstruction of Taxiway A, Construction of Taxiway D, Construction of Taxiway H, Construction of Taxiway M, Acquisition of Runway Sweeping Equipment, Airfield Lighting Improvements, Update of Airport Master Plan, Install Omni-Directional Approach Lighting System for Runway 29, Relocate Threshold for Runway 25, Construction of Aircraft Rescue and Firefighting Facility, Construction of Taxiway L, Construction of Taxiway N.

Class or classes of air carriers which the public agency has requested not be required to collect PFCs: nonscheduled/on-demand air carriers filing FAA Form 1800-31.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the San Luis Obispo County Airport.

Issued in Hawthorne, California, on June 20, 2002.
Herman C. Bliss,
Manager, Airports Division, Western-Pacific Region.

[FR Doc. 02-16892 Filed 7-3-02; 8:45 am]

BILLING CODE 4910-13-M